GENERAL SERVICES ADMINISTRATION

48 CFR Parts 504 and 552

[GSAR Case 2006-G510; Docket 2008-0007; Sequence 19]

RIN 3090-AI72

General Services Acquisition Regulation; GSAR Case 2006-G510; Rewrite of GSAR Part 504, Administrative Matters

AGENCY: Office of the Chief Acquisition Officer, General Services Administration (GSA).

ACTION: Proposed rule.

SUMMARY: The GSA is proposing to amend the General Services Acquisition Regulation (GSAR) to revise the language regarding requirements for administrative matters.

DATES: Interested parties should submit written comments to the Regulatory Secretariat on or before December 8, 2008 to be considered in the formulation of a final rule.

ADDRESSES: Submit comments identified by GSAR Case 2006-G510 by any of the following methods:

• Regulations.gov: http://www.regulations.gov. Submit comments via the Federal eRulemaking portal by inputting “GSAR Case 2006-G510” under the heading “Comment or Submission”. Select the link “Send a Comment or Submission” that corresponds with GSAR Case 2006-G510. Follow the instructions provided to complete the “Public Comment and Submission Form”. Please include your name, company name (if any), and “GSAR Case 2006-G510” on your attached document.

• Fax: 202-501-4067.

• Mail: General Services Administration, Regulatory Secretariat (VPR), 1800 F Street, NW, Room 4041, ATTN: Laurieann Duarte, Washington, DC 20405.

Instructions: Please submit comments only and cite GSAR Case 2006-G510 in all correspondence related to this case. All comments received will be posted without change to http://www.regulations.gov, including any personal and/or business confidential information provided.

FOR FURTHER INFORMATION CONTACT For clarification of content, contact Mr. Ernest Woodson at (202) 501-3775, or by e-mail at ernest.woodson@gsa.gov. For information pertaining to the status or publication schedules, contact the Regulatory Secretariat (VPR), Room 4041, GS Building, Washington, DC 20405, (202) 501-4755. Please cite GSAR Case 2006-G510.

SUPPLEMENTARY INFORMATION:

A. Background

The GSA is amending the GSAR to update the text addressing GSAR Part 504, Administrative Matters; Subpart 504.4, Safeguarding Classified Information Within Industry; Subpart 504.5, Electronic Commerce in Contracting; Subpart 504.6, Contract Reporting; Subpart 504.11, Central Contractor Registration; and Subpart 504.13, Personal Identify Verification of Contractor Personnel. This rule is a result of the GSA Acquisition Manual (GSAM) Rewrite initiative undertaken by the GSA to revise the GSAM to maintain consistency with the Federal Acquisition Regulation (FAR) and implement streamlined and innovative acquisition procedures that contractors, offerors, and GSA acquisition personnel can utilize when entering into and administering contractual relationships. The GSAM incorporates the GSAR as well as internal agency acquisition policy.

The GSA will rewrite each part of the GSAR and GSAM, and as each GSAR part is rewritten, GSA will publish it in the Federal Register.

This rule covers the rewrite of GSAR Parts 504 and 552. The rule revises GSAR Subpart 504.4, Safeguarding Classified Information Within Industry; revises Section 504.402, General; deletes duplicative information already addressed in FAR 4.402; deletes the definition for “U.S. Industry” as the term is not referred in the subpart; revises Section 504.475, Return of classified information, to ensure grammatical and structural consistency; deletes Subpart 504.5, Electronic Commerce in Contracting, in its entirety because it duplicates information already addressed in FAR 4.5; in Subpart 504.6, Contract Reporting, redesignates Section 504.602-71, Federal Procurement Data System-Public Access, as Section 504.605-70, Federal Procurement Data System-Public Access, to establish a one-time fee for direct public access to Federal Procurement Data System Database; adds a new Subpart 504.11, Central Contractor Registration (CCR) and a new Section 504.1103, Procedures, to ensure that prospective contractors register in CCR in accordance with the FAR 4.1103; adds a new Subpart 504.13, Personal Identity Verification of Contractor Personnel and new Sections 504.1301, Policy, and 504.1303, Contract Clause, to establish agency policy for ensuring compliance with Homeland Security Presidential Directive, HSPD-12, and prescribe the requirements for inserting a new clause FAR 552.204-9, Personal Identify Verification Requirements, in solicitations and contracts when contractor employees will require access to Federal facilities or information.

This is not a significant regulatory action and, therefore, was not subject to review under Section 6(b) of Executive Order 12866, Regulatory Planning and Review, dated September 30, 1993. This rule is not a major rule under 5 U.S.C. 804.

B. Regulatory Flexibility Act

The GSA does not expect this proposed rule to have a significant economic impact on a substantial number of small entities within the meaning of the Regulatory Flexibility Act, 5 U.S.C. 601, et seq., because the revisions are not considered substantive. An Initial Regulatory Flexibility Analysis has, therefore, not been performed. We invite comments from small businesses and other interested parties. The GSA will consider comments from small entities concerning the affected GSAR Parts 504 and 552 in accordance with 5 U.S.C. 610. Interested parties must submit such comments separately and should cite 5 U.S.C. 601, et seq. (GSAR case 2006-G510), in correspondence.

C. Paperwork Reduction Act

The Paperwork Reduction Act does not apply because the proposed changes to the GSAR do not impose information collection requirements that require the approval of the Office of Management and Budget under 44 U.S.C. 3501, et seq.

List of Subjects in 48 CFR Parts 504 and 552

Government procurement.

Dated: September 18, 2008
Al Matera,
Director, Office of Acquisition Policy.

Therefore, GSA proposes to amend 48 CFR parts 504 and 552 as set forth below:

1. The authority citation for 48 CFR parts 504 and 552 continues to read as follows:

Authority: 40 U.S.C. 121(c).

PART 504—ADMINISTRATIVE MATTERS

2. Revise section 504.402 to read as follows:

504.402 General.

(a) This subpart prescribes procedures for safeguarding classified information required to be disclosed to contractors in connection with the solicitation of offers, and the award, performance, and termination of contracts.

(b) As used in this subpart, the term “Contractor(s)” means prospective contractors, subcontractors, vendors, and suppliers.

3. Amend section 504.475 by revising paragraph (a), paragraph (b) introductory text, and paragraphs (b)(1) thru (b)(5)(i) to read as follows:

504.475 Return of classified information.

(a) Contracting officers must recover classified information, unless it has been destroyed as provided in Section 7 of Chapter 5 of the National Industrial Security Program Operating Manual (NISPOM). The Government agency that provided classified information to a GSA contractor is responsible for the return of the information.

(b) Contracting officers must ensure that classified information provided by the government is returned immediately after any of the following events:

(1) Bid opening or closing date for receipt of proposals by non-responding offerors.

(2) Contract award by unsuccessful offerors.

(3) Termination or completion of the contract.

(4) Notification that authorization to release classified information has been withdrawn.

(5) After Notification that a facility—

(i) Does not have adequate means to safeguard classified information; or

Subpart 504.5 [Removed]

4. Remove Subpart 504.5.

504.602-71 [Redesignated as 504.605-70]

5. Redesignate section 504.602-71 as 504.605-70.

6. Add Subpart 504.11 to read as follows:

Subpart 504.11—Central Contractor Registration

Sec.
504.1103 Procedures.

Subpart 504.11—Central Contractor Registration

504.1103 Procedures.

In addition to the requirements found in FAR 4.1103, prior to awarding a contractual instrument the contracting officer must—

(1) Verify that the prospective contractor's exact legal business name, Doing-Business-As (DBA) name (if any), physical street address, and Data Universal Number System (DUNS) number or DUNS+4 number, as found in the CCR, matches the information that will be placed on the contract, order, or agreement from the vendor's quote or proposal. Correct mismatches by having the vendor amend the information in the CCR or the quote or proposal. The CCR information can be accessed through GSA's CCR repository. (Contact the GSA Systems Programming Branch for instructions, a user ID, and password.)

(2) Ensure that the contractor's address code exists in Pegasys and that it is CCR enabled with the contractor's DUNS or DUNS+4 number. This can be done by searching Pegasys records using the contractor's Taxpayer Identification Number (TIN). If no code exists, request that a new address code be established by the Finance Center for CCR compliance.

(3) Ensure that the contractor's identifying information is correctly placed on the contractual instrument, using special care to ensure that the legal name and “remit to” name match exactly. (Note: Lockbox names or numbers should not be used to replace the contractor's name in the remittance block on the contractual instrument.)

7. Add Subpart 504.13 to read as follows:

Subpart 504.13—Personal Identity Verification of Contractor Personnel

Sec.
504.1301 Policy.
504.1303 Contract clause.

Subpart 504.13—Personal Identity Verification of Contractor Personnel

504.1301 Policy.

Contracting officers must follow the procedures contained in the GSA HSPD-12 Personal Identify Verification and Credentialing Standard Operating Procedures, found at http://insite.gsa.gov/hspd12implementation, to ensure compliance with Homeland Security Presidential Directive-12 (HSPD-12) “Policy for a Common Identification Standard for Federal Employees and Contractors,” Office of Management and Budget Memorandum M-05-24, and Department of Commerce FIPS PUB 201.

504.1303 Contract clause.

Insert the clause at 552.204-9, Personal Identity Verification Requirements, in solicitations and contracts when it is determined that contractor employees will require routine physical access to federally controlled facilities or information systems to perform contract requirements.

PART 552—SOLICITATION PROVISIONS AND CONTRACT CLAUSES

8. Add section 552.204-9 to read as follows:

552.204-9 Personal Identity Verification Requirements.

As prescribed in 504.1303, insert the following clause:

PERSONAL IDENTITY VERIFICATION REQUIREMENTS (DATE)

The Contractor shall comply with GSA personal identity verification requirements, identified by the Contracting Officer, if Contractor employees require routine physical access to GSA controlled facilities or information systems to perform contract requirements.

(End of clause)

[FR Doc. E8-22794 Filed 10-8-08; 8:45 am]

BILLING CODE 6820-61-S